OFFICE OF PERSONNEL MANAGEMENT

Submission for Revision of a Previously Approved Information Collection: Declaration for Federal Employment, Optional Form (OF) 306

AGENCY: Office of Personnel Management.

ACTION: 60-day notice and request for comments.

SUMMARY: In accordance with the Paperwork Reduction Act of 1995, the National Background Investigations Bureau (NBIB), Office of Personnel Management (OPM) offers the opportunity to comment on its proposed revision of a previously-approved information collection, Declaration for Federal Employment, Optional Form (OF) 306.

DATES: Comments are encouraged and will be accepted until April 23, 2019. This process is conducted in accordance with 5 CFR 1320.8(d)(1).

ADDRESSES: You may submit comments, identified by docket number and title, by the following method:

• Federal Rulemaking Portal: http://www.regulations.gov. Follow the instructions for submitting comments.

All submissions received must include the agency name and docket number for this document. The general policy for comments and other submissions from members of the public is to make these submissions available for public viewing at http://www.regulations.gov as they are received without change, including any personal identifiers or contact information.

FOR FURTHER INFORMATION CONTACT: A copy of this ICR, with applicable supporting documentation, may be obtained by contacting the National Background Investigations Bureau, Office of Personnel Management, 1900 E Street NW, Washington, DC 20415, Attention: Donna McLeod or sent by email to FISFormsComments@opm.gov.

SUPPLEMENTARY INFORMATION: OPM is soliciting comments for this collection as required by the Paperwork Reduction Act of 1995, 44 U.S.C. 3506(c)(2). The Office of Management and Budget is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

The Declaration for Federal Employment Optional Form (OF) 306 is completed by applicants who are under consideration for Federal or Federal contract employment. It collects information about an applicant's selective service registration, military service, and general background. The information collected on this form is mainly used to determine a person's acceptability for Federal and Federal contract employment, and his or her retirement status and life insurance enrollment. However, if necessary, and usually in conjunction with another form or forms, the information on this form may be used in conducting an investigation to determine a person's suitability or ability to hold a security clearance, and it may be disclosed to authorized officials making similar, subsequent determinations.

The OF 306 requests that the applicant provide personal identifying data, including past convictions, imprisonments, probations, paroles or military court martial, delinquency on a Federal debt, Selective Service Registration, United States military service, Federal civilian or military retirement benefits received or applied for, and life insurance enrollment.

OPM proposes the following modifications to the OF 306.

• The Instructions include an explanation that the questions and answers are not optional and must be answered.

• In the Privacy Act Statement, section headings (Authorities, Purpose, Information Regarding Disclosure of Your Social Security Number (SSN)) are added for clarity; additional authority is cited for collecting the respondent's SSN; and a website link is added for the System Notice OPM/GOVT-1, General Personnel Records, https://www.opm.gov/information-management/privacy-policy/sorn/opm-sorn-govt-1-general-personnel-records.pdf.

• The Public Burden Statement includes an updated address for the submission of comments regarding the burden estimate.

• Additional examples added to Question 5, Other Names Ever Used.

• Military Service, Question 8 was amended to list the specific branch (Army, Army National Guard, Navy, Air Force, Air National Guard, Marine Corps, and/or Coast Guard).

• The Background Information instructions were amended to reflect a higher traffic fines reporting threshold and reads `traffic fines of $1,000 or less' from `traffic fines of $300 or less.'

• Question 9 currently reads, “During the last 7 years, have you been convicted, been imprisoned, been on probation, or been on parole? (Includes felonies, firearms or explosives violations, misdemeanors, and all other offenses.) If `YES,' use item 16 to provide the date, an explanation of the violation, place of occurrence, and the name and address of the police department or court involved.” Question 9 is amended to read, “During the last 7 years, have you: Been convicted of any crime (Include misdemeanors, felonies, firearms or explosives violations, domestic violence, alcohol, drugs, and all other crimes or offenses); Been subject to judge or court specified conditions requiring satisfactory completion before a criminal charge has been or will be dismissed; Served time in jail or prison as a result of being convicted of a crime; or Been on probation or parole? If “YES,” use item 16 to provide the date, explanation of the violation/charge, place of occurrence, and the name and address of the police and court involved.”

The verbiage change from asking if one has been “imprisoned” to ask if one has “served time in jail or prison” as the result of a conviction is also for clarity. OPM is proposing to add a requirement to admit charges for which one has been placed into a pretrial intervention or diversionary program or the like. These programs allow individuals to agree to comply with specific conditions in lieu of criminal prosecution and upon compliance, to have the charge(s) dismissed. They are generally available to those accused of committing a wide range of offenses. The offender is not commonly placed into traditional community supervision and participants or those who successfully complete the program, are not considered to have been convicted. The proposed change closes a gap for those who participate in or successfully complete this type of alternative disposition and may not have to answer affirmatively to the current question and report the details of the offense.

• Question 11, “Are you currently under charges for any violation of law?” was amended to “Are you currently under charges for any violation of law, on trial or awaiting a trail on criminal charges?”

• Question 12, related to reasons for leaving employment, was organized into bullet points to improve readability.

• Question 13, related to financial delinquency, was amended to clarify that its coverage includes co-signers and guarantors as well as sole debtors.

• Continuation Space/Agency Optional Questions, item 16, was reorganized for greater clarity.

• Certifications/Additional Questions, APPLICANT instructions were amended to instruct the applicant to read and complete the form's certification paragraph, and a separate new consent statement.

• The “I consent” paragraph was separated from the “I certify” paragraph, and each paragraph must be signed and dated. Also added was an explanation that “This consent is valid for two (2) years from the date signed below, or expires when my affiliation with the Federal Government ends, whichever is sooner.”

Analysis

Agency: NBIB, U.S. Office of Personnel Management.

Title: Declaration for Federal Employment, Optional Form (OF) 306.

OMB Number: 3206-0182.

Affected Public: Individuals.

Number of Respondents: 315,478.

Estimated Time Per Respondent: 15 minutes.

Total Burden Hours: 78,870.

Office of Personnel Management.
Alexys Stanley,
Regulatory Affairs Analyst.

[FR Doc. 2019-03056 Filed 2-21-19; 8:45 am]

BILLING CODE 6325-53-P